DEPARTMENT OF THE TREASURY

Comptroller of the Currency

12 CFR Part 3

Capital Adequacy Standards

CFR Correction

In Title 12 of the Code of Federal Regulations, Parts 1 to 199, revised as of January 1, 2014, on page 109, in § 3.121, in paragraph (c), in the third sentence, “§ ???10.(c)(1)” is corrected to read “§ 3.10 (c)(1)” and on page 180, in § 3.202, in paragraph (a), “§ ???.2” is corrected to read “3.2”.

[FR Doc. 2014-20556 Filed 8-28-14; 8:45 am]

BILLING CODE 1505-01-D